DEPARTMENT OF COMMERCE

Submission For OMB Review; Comment Request

DOC has submitted to the Office of Management and Budget (OMB) for clearance the following proposal for collection of information under the provisions of the Paperwork Reduction Act (44 U.S.C. Chapter 35).

Agency: U.S. Census Bureau.

Title: U.S. Census Age Search.

Form Number(s): BC-600, BC-649(L), BC-658(L).

Agency Approval Number: 0607-0117.

Type of Request: Revision of a currently approved collection.

Burden: 699 hours.

Number of Respondents: 2,620.

Avg Hours Per Response: BC-600—12 min.; BC-649(L) & BC-658(L)—6 min.

Needs and Uses: This request for clearance is for a revision of the currently approved collection for the United States Age Search Service. The age and citizenship searching service provided by the National Processing Center is a self-supporting operation of the U.S. Census Bureau. Expenses incurred in providing census transcripts are covered by the fees paid by individuals requesting a search of the census records. The Survey Processing Branch/Personal Census Search Unit in Jeffersonville, Indiana, maintains the 1910-2000 Federal censuses for searching purposes. The purpose of the searching is to provide, upon request, transcripts of personal data from historical population census records. Information relating to age, place of birth, and citizenship is provided upon payment of the established fee to individuals for their use in qualifying for social security, old age benefits, retirement, court litigation, passports, insurance settlements, etc. The census records maintained in this unit are confidential by an Act of Congress. The Census Bureau is prohibited by federal laws from disclosing any information contained in the records except upon written request from the person to whom the information pertains or to a legal representative.

The United States Census Bureau is amending Title 15, Code of Federal Regulations, Parts 50 and 80, fee structure for age search and citizenship information, to increase the fee for an age search from $40 to $65. This change is being made to recover the increase in cost to process a request due to operating cost. Title 13, United States Code, requires recovery of the costs. We are also adding an additional charge of $20 per case for expedited requests requiring search results within one day.

Affected Public: Individuals.

Frequency: On occasion.

Respondent's Obligation: Required to obtain or retain benefits.

Legal Authority: Title 13 U.S.C., Section 8a.

OMB Desk Officer: Susan Schechter, (202) 395-5103.

Copies of the above information collection proposal can be obtained by calling or writing Diana Hynek, Departmental Paperwork Clearance Officer, (202)482-0266, Department of Commerce, room 6625, 14th and Constitution Avenue, NW, Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: May 3, 2004.
Madeleine Clayton,
Management Analyst, Office of the Chief Information Officer.

[FR Doc. 04-10349 Filed 5-5-04; 8:45 am]

BILLING CODE 3510-07-P